DEPARTMENT OF AGRICULTURE

Submission for OMB Review; Comment Request

September 8, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by October 14, 2014 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: 2014 Tenure, Ownership, and Transition of Agricultural Land.

OMB Control Number: 0535-0240.

Summary of Collection: The 2014 Tenure, Ownership, and Transition of Agricultural Land (TOTAL) is an integral part of the 2012 Census of Agriculture and is conducted under the authority of the Census of Agriculture Act of 1997 (Pub. L. 105-113). This law requires the Secretary of Agriculture to conduct a census of agriculture in 1998 and every fifth year following 1998. The primary functions of the National Agricultural Statistics Service (NASS) are to prepare and issue state and national estimates of crop and livestock production, disposition, and prices and to collect information on related environmental and economic factors.

Need and Use of the Information: TOTAL will be conducted as a follow-on survey to the 2012 Census of Agriculture and will use two questionnaires, one for farm operators and one for landlords who do not farm. The survey will obtain data to accurately define the economic status of U.S. farm operations and households. Detailed, farm level, economic data are essential for making informed decisions relating to the farming industry. The combined data series will yield a complete picture of farm expenses and land ownership of American farmland.

This is a reinstatement of the previously approved Census of Agriculture follow-on survey titled Agricultural Economics and Land Ownership Survey (AELOS).

Description of Respondents: Business or other for-profit; Farms.

Number of Respondents: 90,000.

Frequency of Responses: Reporting: One time.

Total Burden Hours: 119,618.

Charlene Parker,
Departmental Information Collection Clearance Officer.

[FR Doc. 2014-21723 Filed 9-11-14; 8:45 am]

BILLING CODE 3410-20-P